DEPARTMENT OF ENERGY

Federal Energy Regulatory Commission

[Docket No. ER01-3032-002]

Virginia Electric and Power Company; Notice of Filing

January 11, 2002.

Take notice that on January 7, 2002, Virginia Electric and Power Company, doing business as Dominion Virginia Power, tendered for filing with the Federal Energy Regulatory Commission (Commission) an executed Generator Interconnection and Operating Agreement (Interconnection Agreement) with Tenaska Virginia Partners, L.P. (Tenaska) that complies with the Commission's December 6, 2001 Order in Docket Nos. ER01-3032-000 and ER01-3032-001.

Dominion Virginia Power respectfully requests that the Commission accept this filing to make the Interconnection Agreement effective as of November 9, 2001, the same date the Commission made the Interconnection Agreement effective in its December 6th Order. Copies of the filing were served upon Tenaska and the Virginia State Corporation Commission.

Any person desiring to be heard or to protest such filing should file a motion to intervene or protest with the Federal Energy Regulatory Commission, 888 First Street, NE., Washington, DC 20426, in accordance with Rules 211 and 214 of the Commission's rules of practice and procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the Commission's Web site at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-filing” link.

Comment Date: January 28, 2002.

C.B. Spencer,
Acting Secretary.

[FR Doc. 02-1292 Filed 1-17-02; 8:45 am]

BILLING CODE 6717-01-P